INTER-AMERICAN FOUNDATION

Sunshine Act Meetings

TIME AND DATE: April 6, 2022, 12:45 p.m.-2:00 p.m. ET.

PLACE: Via Zoom.

STATUS: Meeting of the IAF Board of Directors, open to the public, portion closed to the public.

MATTERS TO BE CONSIDERED:

Call to Order from the Board Chair

Overview of Meeting Rules by General Counsel

Approval of February 16 & 17th, 2022 Meeting Minutes

Briefing on Anti-Deficiency Act

Briefing on Grants Oversight Committee

Briefing on May 3rd Board Meeting Logistics/Reception

Adjournment

PORTION TO BE CLOSED TO THE PUBLIC: Executive session closed to the public as provided for by 22 CFR 1004.4(b).

CONTACT PERSON FOR MORE INFORMATION: Aswathi Zachariah, General Counsel, (202) 683-7118.

For Dial-in Information Contact: Denetra McPherson, Paralegal, (202) 688-3054.

The Inter-American Foundation is holding this meeting under the Government in the Sunshine Act, 5 U.S.C. 552(b).

Aswathi Zachariah,
General Counsel.

[FR Doc. 2022-06848 Filed 3-28-22; 4:15 pm]

BILLING CODE 7025-01-P